DEPARTMENT OF AGRICULTURE

Animal and Plant Health Inspection Service

[Docket No. 01-014-1]

Notice of Request for Extension of a Currently Approved Information Collection

AGENCY: Animal and Plant Health Inspection Service, USDA.

ACTION: Extension of approval of an information collection; comment request.

SUMMARY: In accordance with the Paperwork Reduction Act of 1995, this notice announces the Animal and Plant Health Inspection Service's intention to request an extension of a currently approved information collection in support of credit account approval for reimbursable services.

DATES: We invite you to comment on this docket. We will consider all comments that we receive by May 21, 2001.

ADDRESSES: Please send four copies of your comment (an original and three copies) to: Docket No. 01-014-1, Regulatory Analysis and Development, PPD, APHIS, Suite 3C03, 4700 River Road, Unit 118, Riverdale, MD 20737-1238.

Please state that your comment refers to Docket No. 01-014-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding credit account approval for reimbursable services, contact Ms. Donna J. Ford, User Fees Section Head, FSSB, APHIS, 4700 River Road Unit 54, Riverdale, MD 20737-1232; (301) 734-5752. For copies of more detailed information on the information collection, contact Mrs. Celeste Sickles, APHIS, Information Collection Coordinator, at (301) 734-7477.

SUPPLEMENTARY INFORMATION: Title: Credit Account Approval for Reimbursable Services.

OMB Number: 0579-0055.

Expiration Date of Approval: April 30, 2001.

Type of Request: Extension of a currently approved information collection.

Abstract: The services of an Animal and Plant Health Inspection Service (APHIS) inspector to clear imported and exported commodities requiring release by APHIS personnel are covered by user fees during regular working hours. If an importer wishes to have a shipment of cargo cleared at other hours, such services will usually be provided on a reimbursable overtime basis, unless already covered by a user fee. Exporters wishing cargo to be certified during nonworking hours may also utilize this procedure.

Requestors of our services are usually repeat customers who request that we bill them for our services. We need to collect certain information in order for our Field Servicing Office to conduct a credit check on prospective applicants to ensure creditworthiness prior to extending credit services, and to prepare billings for such services performed.

Also, the Debt Collection Improvement Act of 1996 requires that agencies collect tax identification numbers from all persons doing business with the Government for purposes of collecting delinquent debts. This is one field on the APHIS Form 192, and it must be completed before credit is extended.

We are asking the Office of Management and Budget (OMB) to extend its approval of our use of this information collection activity for an additional 3 years.

The purpose of this notice is to solicit comments from the public (as well as affected agencies) concerning this information collection activity. These comments will help us:

(1) Evaluate whether the information collection is necessary for the proper performance of our agency's functions, including whether the information will have practical utility;

(2) Evaluate the accuracy of our estimate of the burden of the information collection, including the validity of the methodology and assumptions used;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 0.25 hours per response.

Respondents: Importers/exporters who wish to set up an account for billing of inspection services provided for shipments of cargo or animals cleared during nonworking hours.

Estimated annual number of respondents: 360.

Estimated annual number of responses per respondent: 1.

Estimated annual number of responses: 360.

Estimated total annual burden on respondents: 90 hours.

All responses to this notice will be summarized and included in the request for OMB approval. All comments will also become a matter of public record.

Done in Washington, DC, this 16th day of March 2001.
Bobby R. Acord,
Acting Administrator, Animal and Plant Health Inspection Service.

[FR Doc. 01-7109 Filed 3-21-01; 8:45 am]

BILLING CODE 3410-34-P